DEPARTMENT OF COMMERCE

International Trade Administration

Princeton University, Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 A.M. and 5:00 P.M. in Suite 4100W, U.S. Department of Commerce, Franklin Court Building, 1099 14th Street, NW, Washington, D.C.

Docket Number: 05-035. Applicant: Princeton University, Princeton, New Jersey. Instrument: Geiger Mode Ionizing Counters (1350). Manufacturer: pol.hi.tech, S.R.I, Italy. Intended Use: See notice at 70 FR 48372, August 17, 2005.

Comments: None received. Decision: Approved. No instrument of equivalent scientific value to the foreign instrument, for such purposes as it is intended to be used, is being manufactured in the United States. Reasons: These are compatible accessories for an existing instrument. Also referred to as limited streamer tubes, they are to be interfaced to the Stanford Linear Accelerator to study all the systematics of B meson decay processes by international research projects. Extreme reliability is an essential feature, since once assembled, they cannot be removed for replacement. The only domestic assembly facility for producing large numbers of these devices (at the University of Houston) has been decommissioned. The accessories are pertinent to the intended uses and we know of no domestic accessories which can be readily adapted for this purpose. We know of no other instrument or apparatus of equivalent scientific value which is being manufactured in the United States.

Gerald A. Zerdy,
Program Manager Statutory Import Programs Staff.

[FR Doc. E5-5894 Filed 10-24-05; 8:45 am]

BILLING CODE 3510-DS-S